DEPARTMENT OF DEFENSE

Office of the Secretary

United States European Command Senior Advisory Group

AGENCY: United States European Command, DoD

ACTION: Notice of closed meeting.

SUMMARY: The United States European Command Senior Advisory Group (USEUCOM SAG) will meet in closed session on October 6 and 7, 2003 at the National Defense University in Washington, DC. The two-day meeting will be discussing issues regarding the European Theater Transformation Campaign Plan and such material cannot be segregated without defeating the purpose of the meeting. Access to the information will be limited to personnel with the specific clearances and need-to-know.

This meeting will include classified matters within the meaning of the Federal Advisory Committee Act in accordance with 5 U.S.C., App 2, Section 10(d), 5 U.S.C., Section 552b(c), and Executive Order 12958 dated April 17, 1995.

DATES: October 6 and 7, 2003.

ADDRESSES: National Defense University, Washington, DC.

FOR FURTHER INFORMATION CONTACT: Mr. J. Mahar, (703) 614-6465.

Dated: September 17, 2003.
Patricia L. Toppings,
Alternate OSD Federal Register Liaison Officer, Department of Defense.

[FR Doc. 03-24438 Filed 9-26-03; 8:45 am]

BILLING CODE 5001-08-M